DEPARTMENT OF COMMERCE

National Oceanic and Atmospheric Administration

[I.D. 061804F]

Proposed Information Collection; Comment Request; Saltonstall-Kennedy Grant Program (S-K Program) Applications and Reports

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before August 23, 2004.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Alicia Jarboe, F/MB5, Room 13112, 1315 East-West Highway, Silver Spring, MD 20910-3282 (telephone 301-713-2358, ext. 199 or e-mail alicia.jarboe@noaa.gov).

SUPPLEMENTARY INFORMATION:

I. Abstract

The S-K Program provides financial assistance on a competitive basis for research and development projects that benefit the U.S. fishing industry (commercial and recreational). In addition to standard Federal government grant application requirements, S-K applications must provide a project summary form (NOAA Form 88-204), use NOAA Form 88-0205 instead of SF-424A for budget information, and provide one original and nine copies of applications. Successful grants applicants are required to submit semi-annual progress reports and a final report.

II. Method of Collection

Final reports must be submitted in electronic form unless an exemption is granted. The other documentation is in paper form.

III. Data

OMB Number: 0648-0135.

Form Number: NOAA Forms 88-204 and 88-205.

Type of Review: Regular Submission.

Affected Public: Not-for-profit institutions; business or other for-profit organizations; individuals or households; and state, local, or tribal government.

Estimated Number of Respondents: 210.

Estimated Time Per Response: 1 hour for a project summary form; 1 hour for a budget form; 2.5 hours for a semi-annual report; and 13 hours for a final report.

Estimated Total Annual Burden Hours: 985.

Estimated Total Annual Cost to Public: $606.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 17, 2004.
Gwellnar Banks,
Management Analyst, Office of the Chief Information Officer.

[FR Doc. 04-14376 Filed 6-23-04; 8:45 am]

BILLING CODE 3510-22-S